DEPARTMENT OF ENERGY

Federal Energy Regulatory Commission

[Project No. 14661-000]

Adam Robert Rousselle, II; Notice of Preliminary Permit Application Accepted for Filing and Soliciting Comments, Motions To Intervene, and Competing Applications

On February 5, 2015, Adam Robert Rousselle, II filed an application for a preliminary permit, pursuant to section 4(f) of the Federal Power Act (FPA), proposing to study the feasibility of the Nockamixon Dam Water Power Project (project) to be located on Tohickon Creek, in Bucks County, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) The existing Nockamixon dam, which is 1,511 feet long and approximately 112 feet high discharging into Tohickon Creek; (2) Nockamixon dam impounds a reservoir of 40,000 acre-feet with a surface area of 1,450 acres, at a pool elevation of 395.0 feet mean sea level; (3) a proposed reinforced concrete powerhouse housing three pump turbine generating units with a total installed capacity of 150 kilowatts; (4) a proposed 826-foot-long, 34.5-kilovolt primary transmission line connected to Metropolitan Edison Company; and (5) appurtenant facilities. The estimated annual generation of the project would be 834,000 kilowatthours.

Applicant Contact: Mr. Adam Robert Rousselle, II, 104 Autumn Trace Drive, New Hope, PA 18938, phone: 215-485-1708.

FERC Contact: Tim Looney; phone: (202) 502-6096.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14661-000.

More information about this project, including a copy of the application, can be viewed or printed on the “eLibrary” link of the Commission's Web site at http://www.ferc.gov/docs-filing/elibrary.asp. Enter the docket number (P-14661) in the docket number field to access the document. For assistance, contact FERC Online Support.

Dated: February 24, 2015.
Nathaniel J. Davis, Sr.,
Deputy Secretary.

[FR Doc. 2015-04244 Filed 2-27-15; 8:45 am]

BILLING CODE 6717-01-P